DEPARTMENT OF JUSTICE

Antitrust Division

Notice Pursuant to the National Cooperative Research and Production Act of 1993—International SEMATECH, Inc.

Notice is hereby given that, on February 9, 1998, pursuant to section 6(a) of the National Cooperative Research and Production Act of 1993, 15 U.S.C. 4301 et seq. (“the Act”), International 300MM Initiative, Inc. (which has changed its name to International SEMATECH, Inc.) has filed written notifications simultaneously with the Attorney General and the Federal Trade Commission disclosing changes in its membership and project status. The notifications were filed for the purpose of extending the Act's provisions limiting the recovery of antitrust plaintiffs to actual damages under specified circumstances. Specifically, Digital Equipment Cooperation, Hudson, MA; Hewlett-Packard Company, Palo Alto, CA; National Semiconductor Cooperation, Santa Clara, CA; Rockwell International, Newport Beach CA; and Siemens Microelectronics, Inc., Cupertino, CA have been added as parties to this venture. Also, International 300MM Initiative, Inc., Austin, TX; LG Semicon Co., Ltd., Cheongju, REPUBLIC OF KOREA; Samsung Electronics Company, Ltd., Seoul, REPUBLIC OF KOREA; and Siemens Components Inc., Cupertino, CA have been dropped as parties to this venture. As of February 9, 1998, the current list of parties to this venture is as follows: Advanced Micro Devices, Inc., Sunnyvale, CA; Digital Equipment Cooperation, Hudson, MA; Hewlett-Packard Company, Palo Alto, CA; Hyundai Electronics Industries Co., Ltd., Kyoungki-do, REPUBLIC OF KOREA; International Business Machines Corporation, Armonk, NY; Intel Corporation, Santa Clara, CA; Lucent Technologies, Inc., Murry Hill, NJ; Motorola, Inc., Shaumburg, IL; National Semiconductor Corporation, Santa Clara, CA; Philips Semiconductors, International BV, Eindhoven, THE NETHERLANDS; Rockwell International, Newport Beach, CA; SGS-THOMSON Microelectronics, Crolles Cedex, FRANCE; Siemens Microelectronics, Inc., Cupertino, CA; Taiwan Semiconductor Manufacturing Company, Ltd., Hsin-Chu, TAIWAN; and Texas Instruments, Inc., Dallas, TX.

The nature and objectives of the venture continues to be to work with its member companies, suppliers, universities and national laboratories to develop equipment, materials, processes, facilities, software and systems for cost-effective advanced semiconductor manufacturing. The scope of the International SEMATECH, Inc. joint venture will be expanded by transferring certain programs in advanced semiconductor manufacturing technology from its parent, SEMATECH, Inc. to International SEMATECH, Inc. In addition to the existing 300MM program, these programs include lithography; environmental safety and health standards; and certain Equipment Productivity Improvements Teams (“EPIT”) projects and manufacturing methods.

No other changes have been made in either the membership or planned activity of the group research project. Membership in this group research project remains open, and International SEMATECH, Inc. intends to file additional written notification disclosing all changes in membership.

On August 15, 1996, International 300MM Initiative, Inc. filed its original notification pursuant to section 6(a) of the Act. The Department of Justice published a notice in the Federal Register pursuant to section 6(b) of the Act on September 17, 1996 (61 FR 48982).

Constance K. Robinson,
Director of Operations, Antitrust Division.

[FR Doc. 01-10025 Filed 4-23-01; 8:45 am]

BILLING CODE 4410-11-M